FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

Agex Inc (NVO), 3701 Collins Avenue, 5B, San Pablo, CA 94806. Officer: Alexander Golovets, President/Treasurer/Secretary (Qualifying Individual). Application Type: New NVO License.

All States Transport, Inc. (OFF), 1067 East Columbus Avenue, Springfield, MA 01103. Officers: Christopher J. Kingston, Vice President, Intl Division (Qualifying Individual), William J. Kingston, Jr., President/Treasurer/Secretary. Application Type: New OFF License.

American Freight Transport, Inc. (OFF), 4805 Meyer Road, Pendleton, NY 14120. Officers: Mark E. Oehm, Vice President (Qualifying Individual), Mary A. Daley, President. Application Type: New OFF License.

American Global Logistics, LLC (NVO & OFF), 53 Perimeter Center East, Suite 450, Atlanta, GA 30346. Officer: Chad Rosenberg, CEO (Qualifying Individual). Application Type: QI Change.

Americargo Express Inc. (NVO & OFF), 1428 NW 82nd Avenue, Doral, FL 33126. Officers: Natalia Diaz, President (Qualifying Individual), Diego Rivera, Secretary. Application Type: New NVO & OFF License.

Asencomex, LLC (NVO & OFF), 8244 NW 14th Street, Doral, FL 33126. Officers: Juan P. Constain, General Manager (Qualifying Individual), Santiago Pardo, CEO. Application Type: New NVO & OFF License.

C & C Group, Inc. (NVO & OFF), 1928 NW 82nd Avenue, Miami, FL 33126. Officer: Claudia Quintero, President/Treasurer/Director (Qualifying Individual). Application Type: Add NVO Service.

CoscoEx (CGL), Inc. dba Citic Global Logistics dba Chimerica Global Logistics (NVO), 817 W. Beverly Blvd., #204, Montebello, CA 90640. Officers: David Fernandes, Treasurer (Qualifying Individual), John Woo, President. Application Type: Trade Name Change.

Ever Best Logistics USA Inc. (OFF), 135-18 37th Avenue, Flushing, NY 11354. Officers: QiJie Sun, Vice President (Qualifying Individual), Andy Wang, President/Secretary/Treasurer. Application Type: New OFF License.

Exel Transportation Services, Inc. (NVO & OFF), 17330 Preston Road, Dallas, TX 75252. Officers: Michael F. Hampel, Vice President Int'l Operations (Qualifying Individual), James Damman, President/Director. Application Type: QI Change.

Ferm Cargo, Inc. (OFF), 3640 NW 115th Avenue, Miami, FL 33178. Officer: Caroline Jessimy, President (Qualifying Individual). Application Type: New OFF License.

Global Transhipping Inc (OFF), 2801 NW 74th Avenue, #204, Miami, FL 33122. Officer: Gus Mojica, President/Secretary/CEO/Director (Qualifying Individual). Application Type: New OFF License.

Hanseatic Moving Services LLC (NVO), 95 River Street, #206, Hoboken, NJ 07030. Officers: Sven Schuemann, Managing Member (Qualifying Individual), Thorsten Doerr, Member. Application Type: New NVO License.

Harold Smith dba Sunshine International (OFF), 600 Bayview Avenue, Inwood, NY 11096. Officers: Harold Smith, Sole Proprietor (Qualifying Individual). Application Type: New OFF License.

JDB Logistics, Inc. (NVO & OFF), 780-A Apex Road, Sarasota, FL 34240. Officers: Karen L. Ambrosia, President (Qualifying Individual), Richard Glanz, Vice President/Secretary. Application Type: License Transfer.

Kemka USA Limited Liability Company (NVO), 421 Lucy Court, South Plainfield, NJ 07080. Officer: Hsiang (Rita) Y. Hsiao, Member (Qualifying Individual). Application Type: New NVO License.

Kuehne + Nagel, Inc. (OFF), 10 Exchange Place, Jersey City, NJ 07302. Officers: Peter Hofmann, Regional Vice President-Northeast (Qualifying Individual), Rolf Altorfer, President. Application Type: QI Change.

Life Cargo Inc. (NVO & OFF), 8578 NW 56th Street, Doral, FL 33166. Officer: Sergio S. Leao, President/Secretary/Treasurer (Qualifying Individual). Application Type: New NVO & OFF.

Mega Supply Chain Solutions, Inc. (NVO & OFF), 9449 8th Street, Rancho Cucamonga, CA 91730. Officers: Carlos Verduzco, Vice President (Qualifying Individual), Karen A. Pelle, CEO. Application Type: QI Change.

Olubayo O. Bamisaye dba Blue Circle Shipping (NVO & OFF), 5228 Fairlawn Avenue, Baltimore, MD 21215. Officer: Olubayo O. Bamisaye, Sole Proprietor. Application Type: New NVO & OFF License.

Omega Access Services LLC (NVO & OFF), 625 N. Collington Avenue, Baltimore, MD 21205. Officer: Ilionele E. Okojie, Director/CEO (Qualifying Individual). Application Type: New NVO & OFF License.

Omega Relocations, Inc. (NVO), 2741 NW 76th Street, Hialeah, FL 33016. Officers: Eyal Aviani, Vice President (Qualifying Individual), Horacio G. Lacayo, President/Secretary. Application Type: New NVO License.

One Source Logistics, LLC (NVO & OFF), 755 Port America Place, #360, Grapevine, TX 76051. Officers: Michael R. Carr, Vice President (Qualifying Individual), Krissandra Enriquez, CEO. Application Type: New NVO & OFF License.

R.N. Orane USA, Inc. (NVO & OFF), 31823 Ponderosa Way, Evergreen, CO 80439. Officer: David R. Knodle, President/CEO/Secretary/Treasurer (Qualifying Individual), Application Type: New NVO & OFF.

Rounders Logistics, LLC (NVO & OFF), 2374 Old Highway 60, Mulberry, FL 33860. Officers: William J. McCarthy, General Manager (Qualifying Individual), Jeffrey G. Cox, Jr., President. Application Type: New NVO & OFF License.

The Right Move, Inc. (NVO), 14-23 110th Street, College Park, NY 11356. Officers: Michal Franklin, President (Qualifying Individual), Bruce S. Franklin, Secretary. Application Type: New NVO License.

Tulair International Corp. (NVO & OFF), 147-20 181st Street, Jamaica, NY 11413. Officers: Gulay Oguzcan, President/CEO (Qualifying Individual), Kerim A. Tulun. Application Type: New NVO & OFF License.

Unique Logistics International (NYC), LLC (NVO), 154-09 146th Avenue, 3rd Floor, Unit B, Jamaica, NY 11434. Officers: Ri H. Mawhinney, Assistant Secretary, Sunandan Ray, President/CEO (Qualifying Individual). Application Type: QI Change.

Zai Cargo Inc. dba Zai Ocean Services dba Zai Container Line (NVO & OFF), 6324 NW 97th Avenue, Doral, FL 33178. Officer: Horacio Zapata, President/Treasurer/VP/Secretary (Qualifying Individual). Application Type: New NVO & OFF License.

Dated: February 11, 2011.
Rachel E. Dickon,
Assistant Secretary.

[FR Doc. 2011-3507 Filed 2-15-11; 8:45 am]

BILLING CODE 6730-01-P